DEPARTMENT OF COMMERCE

National Oceanic and Atmospheric Administration

[RTID 0648-XC950]

North Pacific Fishery Management Council; Public Meeting

AGENCY: National Marine Fisheries Service (NMFS), National Oceanic and Atmospheric Administration (NOAA), Commerce.

ACTION: Notice of hybrid meeting.

SUMMARY: The North Pacific Fishery Management Council (Council) Fishery Monitoring Advisory Committee (FMAC) will meet May 10, 2023 and May 11, 2023.

DATES: The meeting will be held on Wednesday, May 10, 2023 to Thursday, May 11, 2023, from 8:30 a.m. to 4 p.m. Alaska Time.

ADDRESSES: The meeting will be a hybrid meeting. Attend in-person at the North Pacific Fisheries office, 1007 West Third Ave., Suite 400, Anchorage, AK 99501 or join online through the link at https://meetings.npfmc.org/Meeting/Details/2992.

Council address: North Pacific Fishery Management Council, 1007 W 3rd Ave., Anchorage, AK 99501-2252; telephone: (907) 271-2809. Instructions for attending the meeting are given under SUPPLEMENTARY INFORMATION below.

FOR FURTHER INFORMATION CONTACT: Sara Cleaver, Council staff; phone: (907) 271-2809; email: sara.cleaver@noaa.gov. For technical support, please contact Council administrative staff, email: npfmc.admin@noaa.gov.

SUPPLEMENTARY INFORMATION:

Agenda

Wednesday, May 10, 2023-Thursday, May 11, 2023

The May 2023 FMAC agenda will include: (a) updates since the last FMAC meeting; (b) an abbreviated 2022 Observer Annual report; (c) discussion of draft 2024 Annual Deployment Plan (ADP) and partial coverage cost efficiencies analysis, (d) electronic monitoring (EM) issues and prioritization, and (e) other business. The agenda is subject to change, and the latest version will be posted at https://meetings.npfmc.org/Meeting/Details/2936 prior to the meeting, along with meeting materials.

Connection Information

You can attend the meeting online using a computer, tablet, or smartphone; or by phone only. Connection information will be posted online at: https://meetings.npfmc.org/Meeting/Details/2992. If you are attending the meeting in-person please note that all attendees will be required to wear a mask.

Public Comment

Public comment letters will be accepted and should be submitted electronically to https://meetings.npfmc.org/Meeting/Details/2992.

Authority: 16 U.S.C. 1801 et seq.

Dated: April 17, 2023.
Rey Israel Marquez,
Acting Deputy Director, Office of Sustainable Fisheries, National Marine Fisheries Service.

[FR Doc. 2023-08378 Filed 4-19-23; 8:45 am]

BILLING CODE 3510-22-P